DEPARTMENT OF COMMERCE

International Trade Administration

[A-201-802]

Gray Portland Cement and Clinker From Mexico: Initiation of an Antidumping Duty Changed-Circumstances Review

AGENCY: Import Administration, International Trade Administration, Department of Commerce.

SUMMARY: In response to a request for a changed-circumstances review from Holcim Apasco, S.A. de C.V. (Apasco) and pursuant to Section II.B.6 of the Agreement between the Office of the United States Trade Representative, the United States Department of Commerce and Secretaria de Economia on Trade in Mexican Cement (the Agreement) dated March 6, 2006, the Department of Commerce is initiating a changed-circumstances review of the antidumping duty order on gray portland cement and clinker from Mexico.

EFFECTIVE DATE: January 4, 2007.

FOR FURTHER INFORMATION CONTACT: George Callen at (202) 482-0180 or Minoo Hatten at (202) 482-1690, AD/CVD Operations, Office 5, Import Administration, International Trade Administration, U.S. Department of Commerce, 14th Street and Constitution Avenue, NW., Washington, DC 20230.

SUPPLEMENTARY INFORMATION:

Background

On August 30, 1990, the Department of Commerce (the Department) published the antidumping duty order on gray portland cement and clinker from Mexico (Mexican cement). See Antidumping Duty Order: Gray Portland Cement and Clinker From Mexico, 55 FR 35443. According to the Agreement, upon request, the Department “shall conduct an expedited changed-circumstances review to establish a new estimated duty deposit rate for any Mexican Cement exporter (and its affiliated parties) that”: (a) Had an estimated duty deposit rate under the Mexican Cement Order; (b) did not receive the new estimated duty deposit rate of three U.S. dollars ($3.00) per metric ton referenced in Section II.A.4.b of this Agreement; and (c) exported Mexican Cement to the United States in the year preceding the Effective Date or exports Mexican Cement to the United States while the Agreement remains in force.

On December 14, 2006, pursuant to section II.B.6 of the Agreement, Apasco requested that the Department conduct a changed-circumstances review of certain export sales of the subject merchandise to the United States made by Apasco during the period October through December 2006.

Scope of the Order

The products subject to this order include gray portland cement and clinker. Gray portland cement is a hydraulic cement and the primary component of concrete. Clinker, an intermediate material product produced when manufacturing cement, has no use other than of being ground into finished cement. Gray portland cement is currently classifiable under Harmonized Tariff Schedule of the United States (HTSUS) item number 2523.29, and cement clinker is currently classifiable under HTSUS item number 2523.10. Gray portland cement has also been entered under HTSUS item number 2523.90 as “other hydraulic cements.” Although the HTSUS subheadings are provided for convenience and customs purposes, the written description of the scope of this proceeding is dispositive.

Initiation of Changed-Circumstances Review

Pursuant to section 751(b)(1) of the Tariff Act of 1930, as amended (the Act), 19 CFR 351.216 (2005), and Section II.B.6 of the Agreement, the Department will conduct a changed-circumstances review upon receipt of information concerning, or a request from an interested party for a review of, an antidumping duty order which shows changed circumstances sufficient to warrant a review of the order. Apasco claims that it has satisfied the criteria detailed above to warrant such a review. See 19 CFR 351.216(d) and II.B.6 of the Agreement. We agree. Therefore, in accordance with the above-referenced regulation, the Department is initiating a changed-circumstances review. The Department will issue questionnaires requesting factual information for the review, and will publish in the Federal Register a notice of preliminary results of antidumping duty changed-circumstances review, in accordance with 19 CFR 351.221(b)(2) and (4), and 19 CFR 351.221(c)(3)(i). The notice will set forth the factual and legal conclusions upon which our preliminary results are based. Pursuant to 19 CFR 351.221(b)(4)(ii), interested parties will have an opportunity to comment on the preliminary results of review. Recognizing that the Agreement specifies an expedited review, we will make every effort to issue final results of review in an expeditious manner, but no later than the regulatory deadline in accordance with 19 CFR 351.216(e). During the course of this antidumping duty changed circumstances review, we will not change the cash deposit requirements for the merchandise subject to review. The cash deposit will be altered, if warranted, pursuant only to the final results of this review.

This notice of initiation is in accordance with section 751(b)(1) of the Act, 19 CFR 351.216(b) and (d), and 19 CFR 351.221(b)(1).

Dated: December 27, 2006.
Stephen J. Claeys,
Acting Assistant Secretary for Import Administration.

[FR Doc. 06-9977 Filed 12-29-06; 4:10 pm]

BILLING CODE 3510-DS-P